DEPARTMENT OF THE INTERIOR

Bureau of Land Management

[CO-500-0777-PB-252Z]

Front Range Resource Advisory Council (Colorado) Meeting Cancellation

AGENCY: Bureau of Land Management, Interior.

ACTION: Notice of meeting cancellation.

SUMMARY: In accordance with the Federal Land Policy and Management Act(FLPMA) and the Federal Advisory Committee Act of 1972 (FACA),5 U.S.C. Appendix, notice is hereby given that the Front Range Resource Advisory Council (Colorado) meeting scheduled for September 18, 2002 at the Holy Cross Abbey Community Center, 2951 E. Highway 50, Canon City, Colorado has been cancelled. Notice of the meeting appeared in the Federal Register: May 20, 2002.

DATES: The meeting was scheduled for September 18, 2002 from 9:15 a.m. to 4 p.m.

FOR FURTHER INFORMATION CONTACT: For further information contact Ken Smith at (719) 269-8500, Bureau of Land Management (BLM), Front Range Center Office, 3170 East Main Street, Canon City, Colorado 81212.

SUPPLEMENTARY INFORMATION: There are no plans to reschedule the meeting.

Dated: September 13, 2002.
John L. Carochi,
Acting Front Range Center Manager.

[FR Doc. 02-23879 Filed 9-19-02; 8:45 am]

BILLING CODE 4310-JB-P